DEPARTMENT OF THE TREASURY

[Docket No. TTB-2021-0007; Notice No. 204]

Promoting Competition in the Beer, Wine, and Spirits Markets

AGENCY: Department of the Treasury; Alcohol and Tobacco Tax and Trade Bureau.

ACTION: Request for Information.

SUMMARY: The Department of the Treasury is issuing this Request for Information (RFI) to solicit input regarding the current market structure and conditions of competition in the American markets for beer, wine, and spirits, including an assessment of any threats to competition and barriers to new entrants.

DATES: Responses should be received by August 18, 2021 to be assured of complete consideration.

ADDRESSES: You may submit comments on this proposal to the Department of the Treasury's Alcohol and Tobacco Tax and Trade Bureau (TTB) by using one of the following methods:

Federal e-Rulemaking Portal: You may send comments via the online comment form posted with this document within Docket No. TTB-2021-0007 on “Regulations.gov,” the Federal e-rulemaking portal, at https://www.regulations.gov. A direct link to that docket is available under Notice No. 204 on the TTB website at https://www.ttb.gov/laws-and-regulations/all-rulemaking. You may attach supplemental files to comments submitted via Regulations.gov.

U.S. Mail: You may send comments via postal mail to the Director, Regulations and Rulings Division, Alcohol and Tobacco Tax and Trade Bureau, 1310 G Street NW, Box 12, Washington, DC 20005.

You may submit comments on this proposal as an individual or on behalf of a business or other organization. Your comment must reference Notice No. 204 and must be submitted or postmarked by the closing date shown in the DATES section of this document.

Confidentiality and Disclosure of Comments

All submitted comments and attachments are part of the rulemaking record and are subject to public disclosure. Do not enclose any material in your comments that you consider confidential or that is inappropriate for disclosure.

TTB will post, and you may view, copies of this document, its supporting materials, and any comments TTB receives about this proposal within the related Regulations.gov docket. In general, TTB will post comments as submitted, and it will not redact any identifying or contact information from the body of a comment or attachment.

Please contact TTB's Regulations and Rulings division by email using the web form available at https://www.ttb.gov/contact-rrd, or by telephone at 202-453-2265, if you have any questions regarding comments on this proposal or to request copies of this document, its supporting materials, or the comments received in response.

FOR FURTHER INFORMATION CONTACT: Michael Hoover, Regulations and Rulings Division, Alcohol and Tobacco Tax and Trade Bureau, 1310 G Street NW, Box 12, Washington, DC 20005; 202-453-1039, ext. 135.

SUPPLEMENTARY INFORMATION: On July 9, 2021, President Biden issued an Executive Order on Promoting Competition in the American Economy. E.O. 14036, 86 FR 36987 (July 14, 2021). Section 5(j) directed the Secretary of the Treasury, in consultation with the Attorney General and the Chair of the Federal Trade Commission (FTC), to submit a report within 120 days “assessing the current market structure and conditions of competition [for beer, wine, and spirits], including an assessment of any threats to competition and barriers to new entrants.” The report is to include discussion of unlawful trade practices; patterns of consolidation in production, distribution, or retail markets; and “any unnecessary trade practice regulations of matters such as bottle sizes, permitting, or labeling that may unnecessarily inhibit competition.”

Further, Section 5(k) of the Order directs the Treasury Secretary, through the Administrator of the Alcohol and Tobacco Tax and Trade Bureau (TTB), to consider within 240 days rulemaking updating TTB's trade practice regulations, revising or rescinding any regulations that “unnecessarily inhibit competition,” and “reducing any barriers that impede market access for smaller and independent brewers, winemakers, and distilleries.”

Consequently, to inform these efforts, we are seeking comment on these topics from participants in the beer, wine, and spirits markets, consumer groups, public interest groups, and interested private parties.

Dated: July 23, 2021.
Timothy E. Skud,
Deputy Assistant Secretary (Tax, Trade, and Tariff Policy).

[FR Doc. 2021-16115 Filed 7-27-21; 8:45 am]

BILLING CODE 4810-31-P